DEPARTMENT OF THE TREASURY

Senior Executive Service; Departmental Offices; FY 2005 Performance/Bonus Review Board

AGENCY: Treasury Department.

ACTION: Notice of membership of the Departmental Offices Performance/Bonus Review Board.

DATES: Effective Date: Membership is effective on the date of this notice.

SUMMARY: Pursuant to 5 U.S.C. 4314(c)(4), this notice announces the appointment of members of the Departmental Offices Performance/Bonus Review Board. The purpose of this Board is to review and make recommendations concerning proposed Performance ratings, bonuses and other appropriate personnel actions for incumbents of SES positions. The Board shall consist of at least three members. In the case of an appraisal of a career appointee, more than half the members shall consist of career appointees. Attached are names and titles of additional Board members. The attachment is in addition to the names that were listed in the Federal Register that was published on September 23, 2005 (Volume 70, Number 184, page 55957-55958).

FOR FURTHER INFORMATION CONTACT: Melissa Talavera, Supervisory Human Resources Specialist, Department of the Treasury, Office of Human Resources, 1500 Pennsylvania Avenue, NW., Washington, DC 20220, Telephone: 202-622-1044.

Joy Charles,
Director, Office of Human Resources.

FY 2005 Performance/Bonus Review Board
[For listing in Federal Register]
Name | Official title
Carleton, Norman | Senior Advisor to the Deputy Assistant Secretary.
Dohner, Robert | Senior Advisor to the Deputy Assistant Secretary.
Eddy, Lynn | Assoc Chief Information Officer.
Jaskowiak, Mark | Dir, Ofc of Specialized Devel.
Kiefer, Donald | Dir, Ofc of Tax Analysis.
Nickles, Kim | White House Liaison.
Paulson, Sara | Supvy Director, Ofc of Devel.
Toloui, Ramin | Dir Ofc Latn Amer & Carib Ntns.
Sanders, Traci | Senior Advisor to the Asst Sec Terrorist Financing.
Skud, Timothy | DAS, Tax Trade and Tariff Policy.
Stedman, Louellen | Dir, Ofc Intl Mon Aff.
Tvardek, Steven | Dir, Ofc of Trade Finance.
Warthin, Thomas | Dir, Ofc of Finan Svcs Negotiations.

[FR Doc. 05-21056 Filed 10-20-05; 8:45 am]

BILLING CODE 4811-33-P